DEPARTMENT OF THE INTERIOR

Fish and Wildlife Service

50 CFR Part 17

[Docket No. FWS-R8-ES-2016-0078; 4500030113]

RIN 1018-BB64

Endangered and Threatened Wildlife and Plants; Threatened Species Status for Chorizanthe parryi var. fernandina (San Fernando Valley Spineflower)

AGENCY: Fish and Wildlife Service, Interior.

ACTION: Proposed rule; reopening of the comment period.

SUMMARY: We, the U.S. Fish and Wildlife Service (Service), announce that a Candidate Conservation Agreement (CCA) has been prepared for Chorizanthe parryi var. fernandina (San Fernando Valley spineflower). The CCA was developed as a collaborative effort between the Newhall Land and Farming Company (Newhall Land), a California limited partnership, and the Service to implement conservation measures for the species. With the release of the CCA, we are reopening for an additional 30 days the comment period on the proposed rule to list C. parryi var. fernandina as a threatened species. We will submit a final listing determination to the Federal Register on or before March 15, 2018.

DATES: The comment period for the proposed rule that published September 15, 2016, at 81 FR 63454 is reopened. We will accept comments received or postmarked on or before December 13, 2017. If you comment using the Federal eRulemaking Portal (see ADDRESSES), you must submit your comments by 11:59 p.m. Eastern Time on the closing date.

ADDRESSES: You may submit comments by one of the following methods:

(1) Federal eRulemaking Portal: http://www.regulations.gov. In the Search box, enter the docket number for this proposed rule, which is FWS-R8-ES-2016-0078. Then click on the Search button. You may submit a comment by clicking on “Comment Now!” Please ensure that you have found the correct rulemaking before submitting your comment.

(2) U.S. mail or hand delivery: Public Comments Processing, Attn: Docket No. FWS-R8-ES-2016-0078; U.S. Fish and Wildlife Service, MS: BPHC; 5275 Leesburg Pike, Falls Church, VA 22041-3803.

FOR FURTHER INFORMATION CONTACT: Stephen P. Henry, Field Supervisor, U.S. Fish and Wildlife Service, Ventura Fish and Wildlife Office, 2493 Portola Road, Ventura, CA 93003; telephone 805-644-5763; facsimile 805-644-3958. Persons who use a telecommunications device for the deaf (TDD) may call the Federal Relay Service at 800-877-8339.

SUPPLEMENTARY INFORMATION:

Background

On September 15, 2016, we published a proposed rule (81 FR 63454) to add Chorizanthe parryi var. fernandina as a threatened species to the List of Endangered and Threatened Plants under the Endangered Species Act of 1973, as amended (16 U.S.C. 1531 et seq.). That proposal had a 60-day comment period, ending November 16, 2016. For a description of previous Federal actions concerning C. parryi var. fernandina, please refer to the September 15, 2016, proposed listing rule (81 FR 63454). On July 19, 2017, the Service announced a 6-month extension of the final determination of whether to list the species as a result of scientific disagreement and uncertainty (82 FR 33036), and reopened an additional 30-day comment period.

Newhall Land and the Service have developed a CCA to provide additional conservation measures for Chorizanthe parryi var. fernandina. The CCA provides for Newhall Land to voluntarily implement additional conservation measures described in the San Fernando Valley Spineflower Enhancement and Introduction Plan (Introduction Plan) with the goal of enhancing the status of the species. The Introduction Plan provides for Newhall Land to voluntarily establish new, protected C. parryi var. fernandina occurrences within the species' historical range that will increase the resiliency of the existing populations and expand the redundancy and representation of the species. Newhall Land will voluntarily conserve an additional 1,498 acres of its property for the benefit of the C. parryi var. fernandina and carry out additional conservation activities within portions of these 1,498 acres and within a portion of the Petersen Ranch Mitigation Bank. Spineflower introduction will occur on a total of at least 10 acres within the Additional Conservation Areas. These actions, collectively known as the Additional Conservation Measures, would contribute to reducing and eliminating current and potential future threats to the persistence of the species by expanding the area of protected conservation land for the plant, increasing the number and extent of protected C. parryi var. fernandina occurrence locations with outplanting, and providing protection for the introduction sites from development-related stressors with conservation easements and management actions. The Additional Conservation Measures would result in at least two new, self-sustaining, and persistent C. parryi var. fernandina occurrences and would increase the number of ecoregions in which the species is represented. All documents are posted to http://www.regulations.gov in Docket No. FWS-R8-ES-2016-0078.

Information Requested

We will accept written comments and information during this reopened comment period on our proposed listing for Chorizanthe parryi var. fernandina that was published in the Federal Register on September 15, 2016 (81 FR 63454) and the CCA. We will consider information and recommendations from all interested parties. We intend that any final action resulting from the proposal will be as accurate as possible and based on the best available scientific and commercial data.

In consideration of the CCA, we are particularly interested in new information and comments regarding:

(1) The efficacy of seed introduction for long-term establishment into suitable, unoccupied habitat of Chorizanthe or related taxa.

(2) Whether the new areas proposed for seeding under the CCA will be appropriate to support populations of Chorizanthe parryi var. fernandina.

(3) Whether the Additional Conservation Areas and Measures established under the Introduction Plan will afford sufficient resiliency, redundancy, and representation for the conservation of the species.

If you previously submitted comments or information on the September 15, 2016, proposed rule (81 FR 63454) and/or the July 19, 2017, reopening of the comment period on the proposed rule (82 FR 33036), please do not resubmit them. We have incorporated previously submitted comments into the public record, and we will fully consider them in the preparation of our final determination. Our final determination concerning the proposed listing will take into consideration all written comments and any additional information we receive.

You may submit your comments and materials concerning the proposed rule by one of the methods listed in ADDRESSES. We request that you send comments only by the methods described in ADDRESSES.

If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Comments and materials we receive, as well as supporting documentation we used in preparing the proposed rule, will be available for public inspection on http://www.regulations.gov, or by appointment, during normal business hours, at the U.S. Fish and Wildlife Service, Ventura Fish and Wildlife Office (see FOR FURTHER INFORMATION CONTACT). You may obtain copies of the proposed rule at http://www.regulations.gov at Docket No. FWS-R8-ES-2016-0078. Copies of the proposed rule are also available at http://www.fws.gov/cno/es//.

Authority: The authority for this action is the Endangered Species Act of 1973, as amended (16 U.S.C. 1531 et seq.).

Dated: October 4, 2017.
Gregory Sheehan,
Acting Director, U.S. Fish and Wildlife Service.

[FR Doc. 2017-24474 Filed 11-9-17; 8:45 am]

BILLING CODE 4333-15-P